DEPARTMENT OF COMMERCE

National Oceanic and Atmospheric Administration

50 CFR Part 648

[Docket No. 150105004-5355-01]

RIN 0648-XE569

Fisheries of the Northeastern United States; Northeast Multispecies Fishery; Trip Limit Adjustment for the Common Pool Fishery

AGENCY: National Marine Fisheries Service (NMFS), National Oceanic and Atmospheric Administration (NOAA), Commerce.

ACTION: Temporary rule; inseason adjustment.

SUMMARY: This action increases the trip limit for Gulf of Maine cod, Gulf of Maine haddock, and Southern New England/Mid-Atlantic yellowtail flounder for Northeast multispecies common pool vessels for the remainder of the 2015 fishing year. The regulations authorize the Regional Administrator to adjust the trip limits for common pool vessels in order to facilitate harvest of, or prevent exceeding, the pertinent common pool quotas during the fishing year. Increasing these trip limits is intended to provide additional fishing opportunities and help allow the common pool fishery to catch its allowable quota for this stock.

DATES: The trip limit increase is effective April 14, 2016, through April 30, 2016.

FOR FURTHER INFORMATION CONTACT: Sarah Heil, Supervisory Fishery Policy Analyst, 978-281-9257.

SUPPLEMENTARY INFORMATION: The regulations at § 648.86(o) authorize the Regional Administrator (RA) to adjust the possession limits for common pool vessels in order to prevent the overharvest or underharvest of the common pool quotas. As of April 5, 2016, the common pool had caught approximately 61 percent of its annual quota of Gulf of Maine (GOM) cod, 11 percent of its GOM haddock quota, and 88 percent of its Southern New England/Mid-Atlantic (SNE/MA) yellowtail flounder quota. To allow the common pool fishery to catch more of its quota for these stocks, effective April 14, 2016, the trip limits for GOM cod, GOM haddock, and SNE/MA yellowtail flounder for all common pool vessels are increased as summarized in Table 1. These changes are intended to provide additional fishing opportunities for common pool vessels.

Table 1—Fishing Year 2015 Common Pool Trip Limit Increases
Stock | Current possession/trip limit | New possession/trip limit
GOM Cod | 25 lb (11.3 kg) per trip | 100 lb (45.4 kg) per trip.
GOM Haddock | 50 lb (22.7 kg) per DAS up to 200 lb (90.7 kg) per trip | 500 lb (226.8 kg) per DAS up to 1,000 lb (453.6 kg) per trip.
SNE/MA Yellowtail Flounder | 50 lb (22.7 kg) per trip | 500 lb (226.8 kg) per DAS up to 1,000 lb (453.6 kg) per trip.

Weekly quota monitoring reports for the common pool fishery can be found on our Web site at: http://www.greateratlantic.fisheries.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the RA to adjust the Northeast multispecies possession and trip limits for common pool vessels in order to prevent the overharvest or underharvest of the pertinent common pool sub-ACLs. The catch data used to justify increasing the possession and trip limit for GOM cod, GOM haddock, and SNE/MA yellowtail flounder only recently became available. The possession and trip limit increase implemented through this action allows for increased harvest of these stocks, to help ensure that the fishery may achieve optimum yield. As a result, the time necessary to provide for prior notice and comment, and a 30-day delay in effectiveness, would prevent us from increasing the possession and trip limit for these stocks before the end of the fishing year on April 30, 2016, which would prevent the additional fishing opportunities this action is intended to provide. This would undermine management objectives of the Northeast Multispecies Fishery Management Plan and cause unnecessary negative economic impacts to the common pool fishery. There is additional good cause to waive the delayed effective period because this action relieves restrictions on fishing vessels by increasing a trip limit.

Authority: 16 U.S.C. 1801 et seq.

Dated: April 14, 2016.
Alan D. Risenhoover,
Director, Office of Sustainable Fisheries, National Marine Fisheries Service.

[FR Doc. 2016-09016 Filed 4-14-16; 4:15 pm]

BILLING CODE 3510-22-P